DEPARTMENT OF LABOR

Employment and Training Administration

Labor Certification Process for the Temporary Employment of Aliens in Agriculture in the United States: 2019 Adverse Effect Wage Rates for Non-Range Occupations

AGENCY: Employment and Training Administration (ETA), Labor.

ACTION: Notice.

SUMMARY: The Employment and Training Administration (ETA) of the Department of Labor (Department) is issuing this notice to announce the 2019 Adverse Effect Wage Rates (AEWR) for the employment of temporary or seasonal nonimmigrant foreign workers (H-2A workers) to perform agricultural labor or services other than the herding or production of livestock on the range.

AEWRs are the minimum wage rates the Department has determined must be offered and paid by employers to H-2A workers and workers in corresponding employment for a particular occupation and area so that the wages and working conditions of similarly employed workers in the United States (U.S.) will not be adversely affected. In this notice, the Department announces the annual update of the AEWRs.

DATES: These rates are applicable January 9, 2019.

FOR FURTHER INFORMATION CONTACT: Thomas M. Dowd, Deputy Assistant Secretary, Employment and Training Administration, Department of Labor, Box #12-200, 200 Constitution Ave. NW, Washington, DC 20210, Telephone: (202) 693-2772 (this is not a toll-free number). Individuals with hearing or speech impairments may access the telephone number above via TTY by calling the toll-free Federal Information Relay Service at 1-877-889-5627 (TTY/TDD).

SUPPLEMENTARY INFORMATION: As a condition precedent to receiving an H-2A visa, employers must first obtain a labor certification from the Department of Labor. The labor certification provides that: (1) There are not sufficient U.S. workers who are able, willing, and qualified and who will be available at the time and place needed to perform the labor or services involved in the petition; and (2) the employment of the foreign worker(s) in such labor or services will not adversely affect the wages and working conditions of workers in the U.S. similarly employed. 8 U.S.C. 1101(a)(15)(H)(ii)(a), 1184(c)(1), and 1188(a); 8 CFR 214.2(h)(5); 20 CFR 655.100.

Adverse Effect Wage Rates for 2019

The Department's H-2A regulations at 20 CFR 655.122(l) provide that employers must pay their H-2A workers and workers in corresponding employment at least the highest of: (i) The AEWR; (ii) the prevailing hourly wage rate; (iii) the prevailing piece rate; (iv) the agreed-upon collective bargaining wage rate; or (v) the Federal or State minimum wage rate in effect at the time the work is performed.

The AEWR for all agricultural employment (except for the herding or production of livestock on the range, which is covered by 20 CFR 655.200-655.235) for which temporary H-2A certification is being sought is equal to the annual weighted average hourly wage rate for field and livestock workers (combined) in the State or region as published annually by the United States Department of Agriculture (USDA). 20 CFR 655.120(c) requires that the Administrator of the Office of Foreign Labor Certification publish the USDA field and livestock worker (combined) wage data as AEWRs in a Federal Register Notice. Accordingly, the 2019 AEWRs to be paid for agricultural work performed by H-2A and U.S. workers on or after the effective date of this notice are set forth in the table below:

Table—2019 Adverse Effect Wage Rates
State | 2019 AEWRs
Alabama | $11.13
Arizona | 12.00
Arkansas | 11.33
California | 13.92
Colorado | 13.13
Connecticut | 13.25
Delaware | 13.15
Florida | 11.24
Georgia | 11.13
Hawaii | 14.73
Idaho | 13.48
Illinois | 13.26
Indiana | 13.26
Iowa | 13.34
Kansas | 14.38
Kentucky | 11.63
Louisiana | 11.33
Maine | 13.25
Maryland | 13.15
Massachusetts | 13.25
Michigan | 13.54
Minnesota | 13.54
Mississippi | 11.33
Missouri | 13.34
Montana | 13.48
Nebraska | 14.38
Nevada | 13.13
New Hampshire | 13.25
New Jersey | 13.15
New Mexico | 12.00
New York | 13.25
North Carolina | 12.25
North Dakota | 14.38
Ohio | 13.26
Oklahoma | 12.23
Oregon | 15.03
Pennsylvania | 13.15
Rhode Island | 13.25
South Carolina | 11.13
South Dakota | 14.38
Tennessee | 11.63
Texas | 12.23
Utah | 13.13
Vermont | 13.25
Virginia | 12.25
Washington | 15.03
West Virginia | 11.63
Wisconsin | 13.54
Wyoming | 13.48

Pursuant to the H-2A regulations at 20 CFR 655.173, the Department will publish a separate Federal Register Notice in early 2019 to announce: (1) The allowable charges for 2019 that employers seeking H-2A workers may charge their workers for providing them three meals a day; and (2) the maximum travel subsistence reimbursement that a worker with receipts may claim in 2019. Also in a separate Federal Register Notice, the Department will publish the monthly AEWR for workers engaged to perform herding or production of livestock on the range for 2019.

Molly E. Conway,
Acting Assistant Secretary for the Employment and Training Administration.

[FR Doc. 2018-28030 Filed 12-20-18; 11:15 am]

BILLING CODE 4510-FP-P